DEPARTMENT OF LABOR

Employee Benefits Security Administration

Prohibited Transaction Exemptions and Grant of Individual Exemptions Involving D-11448, The PNC Financial Services Group, Inc., 2010-19; D-11514, Citigroup Inc. and its Affiliates (Citigroup or the Applicant), 2010-20; D-11527, Barclays California Corporation (Barcal), 2010-21; D-11640 and D-11534, Respectively, CUNA Mutual Pension Plan for Represented Employees and CUNA Mutual Pension Plan for Non-Represented Employees (Together, the Plans), 2010-22

Correction

In notice document 2010-16097 beginning on page 38551 in the issue of Friday, July 2, 2010, make the following corrections:

1. On page 38551, in the third column, insert: “The PNC Financial Services Group, Inc. Located in Pittsburgh, Pennsylvania [Prohibited Transaction Exemption 2010-19; Exemption Application No. D-11448]” above the heading Exemption.

2. On page 38553, in the third column, insert: “Citigroup Inc. and Its Affiliates (Citigroup or the Applicant) Located in New York, New York [Prohibited Transaction Exemption 2010-20; Exemption Application No. D-11514]” above the heading Exemption.

3. On page 38555, in the second column, insert: “Barclays California Corporation (Barcal) Located in San Francisco, California [Prohibited Transaction Exemption 2010-21; Exemption Application No. D-11527]” above the heading Exemption.

4. On page 38556, in the second column, insert: “CUNA Mutual Pension Plan for Represented Employees and CUNA Mutual Pension Plan for Non-Represented Employees (together, the Plans), Located in Madison, Wisconsin [Prohibited Transaction Exemption No. 2010-22, Application Nos. D-11640 and D-11534, Respectively]” above the heading Exemption.

[FR Doc. C1-2010-16097 Filed 7-9-10; 8:45 am]

BILLING CODE 1505-01-D